DEPARTMENT OF THE TREASURY

Bureau of Alcohol, Tobacco and Firearms

27 CFR Part 9

[Notice No. 965; 2002R-421P]

RIN 1512-AD05

Proposed Expansion of the Russian River Valley Viticultural Area

AGENCY: Bureau of Alcohol, Tobacco and Firearms (ATF), Treasury.

ACTION: Notice of proposed rulemaking (NPRM).

SUMMARY: ATF has received a petition proposing the expansion of the Russian River Valley viticultural area in Sonoma County, California. The petitioned 767-acre expansion lies on the eastern boundary of the Russian River Valley viticultural area, which is entirely within the Sonoma Coast and North Coast viticultural areas of northern California. We propose this action under the authority of the Federal Alcohol Administration Act. We invite comments on this proposal.

DATES: We must receive written comments by March 10, 2003.

ADDRESSES: You may send comments to any of the following addresses:

• Chief, Regulations Division, Bureau of Alcohol, Tobacco and Firearms, P.O. Box 50221, Washington, DC 20091-0221 (Attn: Notice No. 965);

• 202-927-8525 (Facsimile);

• nprm@atfhq.atf.treas.gov (E-mail);

• http://www.atf.treas.gov (An online comment form is available with this notice).

See the “Public Participation” section of this notice for specific requirements, as well as for information on how to request a public hearing.

FOR FURTHER INFORMATION CONTACT: N. A. Sutton, Specialist, Regulations Division (San Francisco, CA), Bureau of Alcohol, Tobacco and Firearms, 221 Main Street, 11th Floor, San Francisco, CA 94105-1906; telephone (415) 271-1254.

SUPPLEMENTARY INFORMATION:

Background on Viticultural Areas

Authority

The Federal Alcohol Administration Act (FAA Act) at 27 U.S.C. 205(e) requires that alcohol beverage labels provide the consumer with adequate information regarding a product's identity, while prohibiting the use of deceptive information on such labels. The FAA Act also authorizes ATF to issue regulations to carry out the Act's provisions.

Regulations in 27 CFR part 4, Labeling and Advertising of Wine, allow the establishment of definitive viticultural areas and the use of their names as appellations of origin on wine labels and in wine advertisements. Title 27 CFR part 9, American Viticultural Areas, contains the list of approved viticultural areas.

Definition

Title 27 CFR 4.25a(e)(1) defines an American viticultural area as a delimited grape-growing region distinguishable by geographic features whose boundaries have been delineated in subpart C of part 9.

Requirements

Section 4.25a(e)(2) outlines the procedure for proposing an American viticultural area. Anyone interested may petition ATF to establish a grape-growing region as a viticultural area. The petition should include:

• Evidence of local and/or national name recognition of the proposed viticultural area as the area specified in the petition;

• Historical or current evidence that the boundaries of the proposed viticultural area are as specified in the petition;

• Evidence of geographical characteristics, such as climate, soil, elevation, physical features, etc., that distinguish the proposed area from surrounding areas;

• A description of the specific boundaries of the viticultural area, based on features found on maps of the largest applicable scale that are approved by the United States Geological Survey (USGS); and

• A copy or copies of the appropriate USGS-approved map(s) with the boundaries prominently marked.

Additionally, for a wine to use the name of a viticultural area as an appellation of origin, 85 percent of the grapes in the wine must be grown within the viticultural area.

Expansion Petition

The Bureau of Alcohol, Tobacco and Firearms (ATF) has received a petition from Donald L. Carano of the Ferrari-Carano Vineyards and Winery in Healdsburg, California, proposing a 767-acre expansion of the established 96,000-acre Russian River Valley viticultural area (See 27 CFR 9.66). This proposed expansion would result in less than a one percent increase in the established area's size. The petitioner states that approximately 365 of the proposed expansion's 767 acres are currently planted to grapes.

Located approximately 55 miles north of San Francisco, the proposed expansion fits into a 90° angle in the current Russian River Valley viticultural area's eastern boundary at the village of Fulton, which is just northwest of the city of Santa Rosa in Sonoma County, California. The proposed expansion is bordered by Fulton Road on the west, River Road on the north, U.S. Highway 101 on the east, and two locally known streets, Dennis Lane and Francisco Avenue, to the south.

The petitioner states that the proposed expansion has the same climate and other characteristics of the current Russian River Valley viticultural area, and, therefore, the proposed expansion meets the criteria for inclusion in the established viticultural area. The petitioner also notes that, in the past, some winegrape growers in the proposed expansion area have erroneously believed their vineyards to be within the boundaries of the Russian River Valley viticultural area.

Name Evidence

The petitioner provided evidence that the proposed expansion area, adjacent to the established area's boundaries, is also referred to as the Russian River Valley viticultural area. A Wine Country Living magazine map of viticultural areas, dated July 2002, shows the proposed expansion area as being within the established Russian River Valley viticultural area's borders. A June 2002 Wine Spectator Online article states that the Vintners Inn hotel is in the Russian River Valley viticultural area, although it is actually in the proposed expansion. The Russian River Wine Road web site (1998-2002) also locates the Vintners Inn, as well as Siduri Wines, inside the Russian River viticultural area, even though both are within the proposed expansion area. In August 2002, the Russian River Valley Winegrape Growers Association website listed several members who are in the proposed expansion area. Road signs in the proposed expansion area also indicate that the area is associated locally with the Russian River.

Evidence of Boundaries

Historically, the proposed expansion area was used for prune orchards and vineyards, according to Mr. John Marcucci, whose family has owned thirty acres in the proposed area for four generations. He recalls that, prior to 1918, the acreage was planted to Petite Syrah, Zinfandel, and Pinot Noir wine grapes. Mr. Marcucci and Mr. Henry Bisordi, both life long residents of the area, also recollect that years ago prune orchards were more profitable than vineyards, but when the market turned, some orchards were replaced with vineyards. The previous owner of the Vintners Inn acreage claims that approximately 50 acres of this land was devoted to French Colombard wine grapes and orchards until about 25 years ago when the orchards were removed for Chardonnay, Pinot Blanc, and Sauvignon Blanc wine grape plantings. Currently, 48 percent, or almost half of the 767 acre proposed expansion area, is used for viticulture.

Growing Conditions

Treasury Decision ATF-159 of October 21, 1983, 48 FR 48813, established the Russian River Valley as a viticultural area. This Treasury Decision stated:

The Russian River viticultural area includes those areas through which flow the Russian River or some of its tributaries and where there is a significant climate effect from coastal fogs. The specific growing climate is the principal distinctive characteristic of the Russian River Valley viticultural area. The area designated is a cool growing coastal area because of fog intruding up the Russian River and its tributaries during the early morning hours.

Climate

The petitioner states that the term “Russian River,” as it applies to viticulture, refers to that portion of the Russian River valley influenced by cool temperatures and coastal fog. The proposed expansion area has heavy fog, according to an undated map included in the petition and titled “Lines of Heaviest and Average Maximum Fog Intrusion for Sonoma County.”

The current petitioner and Treasury Decision ATF-159, which established the Russian River Valley viticultural area, both refer to the Winkler degree-day (accumulated heat units) system, which is used to classify grape-growing climatic regions (See “General Viticulture,” Albert J. Winkler, University of California Press, 1975). As noted in Treasury Decision ATF-159, “The Russian River Valley viticultural area is termed ‘coastal cool’ with a range of 2000 to 2800 accumulated heat units.”

The petitioner conducted a degree-day study of three vineyards from April 2001 through October 2001, which coincides with Winkler's growing season. Two of these vineyards are within the established Russian River Valley viticultural area, while the other is in the proposed expansion area. This study measured air temperature, wind speed, precipitation, and humidity at the three area vineyards. The petitioner provided the degree-day (accumulated heat units) results shown in the following table:

Vineyard | Degree-days (accumulated heat units)
In the established viticultural area:
Vino Farms Vineyard | 2,477
Storey Creek Vineyard | 2,736
In the proposed expansion area:
LeCarrefour Vineyards | 2,636

The results from the three vineyards studied show that all three are within the 2,000 to 2,800 accumulated heat units range found in the Russian River Valley viticultural area, as stated in Treasury Decision ATF-159. ATF independently confirmed that LeCarrefour Vineyards, at 4350 Barnes Road, Santa Rosa, California, is within the petitioned expansion area.

Elevation

Elevations within the proposed expansion area range from 130 feet to 160 feet, with a gentle rise from southwest to northeast, according to the two USGS topographic maps covering the expansion area. These elevations are similar to those found in the portion of the established Russian River Valley viticultural area immediately adjacent to the proposed expansion.

Soil

The predominant soils of the proposed expansion of the Russian River Valley viticultural area are Huichica Loam, Yolo Clay Loam, and Yolo Silt Loam, as depicted on the Sonoma County Soil Survey map (USDA, 1972), sheet 74. These soils are also found within the established Russian River Valley viticultural area in vineyards to the north of the proposed area, as depicted on pages 57 and 66 of the maps developed by the USDA's Forest Service and Soil Conservation Service in May 1972. Treasury Decision ATF-159, which established the Russian River Valley viticultural area, does not identify the predominant soils of the area or indicate any uniqueness in the soils of the viticultural area.

Watershed

The established Russian River Valley viticultural area and the proposed expansion area are in the large Russian River Valley watershed, as noted on the (California) Department of Fish and Game Inland Fisheries Division's “Russian River Watershed” map of April 1, 1997. This watershed includes the Russian River and the tributaries noted in Treasury Decision ATF-159.

Boundary Description

The proposed expansion area is along the current eastern boundary line of the Russian River Valley viticultural area in a 90° angle at the village of Fulton, just northwest of the city of Santa Rosa, California. The proposed expansion area boundary has four irregular sides and is wider along its southern side than at its northern side. Its overall size is 767 acres, or about 1.2 square miles. The general road boundaries are Fulton Road to the west, River Road to the north, U.S. Highway 101 to the east, and Dennis Lane and Francisco Avenue to the south. Fulton Road on the west and River Road on the north form a portion of the current Russian River Valley viticultural area's eastern boundary.

Maps

The proposed expansion of the Russian River Valley viticultural area is shown on two USGS maps: the Santa Rosa Quadrangle, California—Sonoma Co., 7.5 Minute Series, edition of 1994; and the Sebastopol Quadrangle, California, 7.5 Minute Series, edition of 1954, photorevised 1980.

Public Participation

We request comments from anyone interested. Please support your comments with historical data or data concerning the growing conditions or boundaries of the area. We will consider your comments if we receive them on or before the closing date. We will consider comments received after the closing date if we can. We will not acknowledge receipt of any comments. All comments received will be considered as originals.

You may submit comments in any of five ways:

• By Mail: You may send written comments to ATF at the address listed in the Addresses section.

• By Facsimile: You may submit comments by facsimile transmission to 202-927-8525. Comments transmitted as facsimiles must—

(1) Be legible;

(2) Reference this notice number;

(3) Be on 8½ x 11-inch paper,

(4) Contain a legible, written signature; and

(5) Be five or less pages long. This limitation assures electronic access to our equipment. We will not accept faxed comments that exceed five pages.

• By E-mail: You may e-mail comments to nprm@atfhq.atf.treas.gov. Comments transmitted as electronic-mail must—

(1) Contain your name, mailing address, and e-mail address;

(2) Reference this notice number on the subject line; and

(3) Be legible when printed on 8½ x 11-inch paper.

• Online: We provide a comment form with the online copy of this proposed rule. See the “Regulations” section of the ATF Internet Web site at http://www.atf.treas.gov.

• In Person: You may write to the Director to ask for a public hearing. The Director reserves the right to determine, in light of all circumstances, whether a public hearing will be held.

Disclosure

You may inspect copies of the petition, the proposed regulations, the appropriate maps, and any written comments received by appointment at the ATF Reference Library, Room 6480, 650 Massachusetts Avenue, NW., Washington, DC 20226. You may also obtain copies of documents and comments related to this notice at 20 cents per page. If you want to view or request copies of comments, call the ATF librarian at 202-927-7890.

For your convenience, we will post comments received in response to this notice on the ATF Web site. All comments posted on our Web site will show the names of commenters, but not street addresses, telephone numbers, or e-mail addresses. We may also omit voluminous attachments or material that we consider unsuitable for posting. In all cases, the full comment will be available in the ATF Reference Library. To access online copies of the comments on this rulemaking, visit http://www.atf.treas.gov/ and select “Regulations,” then “Notices of proposed rulemaking (Alcohol).” Next, select “View Comments” under this notice number.

We will not recognize any comments or submitted materials as confidential. We will disclose all information in comments and the names of commenters. Do not enclose in your comments any material you consider confidential or inappropriate for disclosure.

Regulatory Analyses and Notices

Paperwork Reduction Act

We propose no requirement to collect information. Therefore, the provisions of the Paperwork Reduction Act of 1995, 44 U.S.C. 3507, and its implementing regulations, 5 CFR part 1320, do not apply.

Regulatory Flexibility Act

We certify that this regulation will not have a significant economic impact on a substantial number of small entities, including small businesses. The establishment of a viticultural area is neither an endorsement nor approval by ATF of the quality of wine produced in the area, but rather an identification of an area that is distinct from surrounding areas. ATF believes the establishment of viticultural areas merely allows wineries to more accurately describe the origin of their wines to consumers, and helps consumers identify the wines they purchase. Thus, any benefit derived from the use of a viticultural area name is the result of a proprietor's own efforts and consumer acceptance of wines from that area.

No new requirements are proposed. Accordingly, a regulatory flexibility analysis is not required.

Executive Order 12866

This proposed rule is not a significant regulatory action as defined by Executive Order 12866. Therefore, no regulatory assessment is required.

Drafting Information

The principal author of this document is N. A. Sutton (San Francisco), Regulations Division, Bureau of Alcohol, Tobacco, and Firearms.

List of Subjects in 27 CFR Part 9

Wine.

Authority and Issuance

ATF proposes to amend Title 27, Code of Federal Regulations, Part 9, American Viticultural Areas, as follows:

PART 9—AMERICAN VITICULTURAL AREAS

Paragraph 1. The authority citation for part 9 continues to read as follows:

Authority: 27 U.S.C. 205.

Par. 2. Amend §9.66, Russian River Valley viticultural area by removing “Road” and adding in its place “Avenue” at the end of paragraph (c)(9), by redesignating paragraphs (c)(12) through (c)(24) as (c)(14) through (c)(26), by revising paragraphs (c)(10) and (c)(11), and by adding new paragraphs (c)(12) and (c)(13) to read as follows:

Subpart C—Approved American Viticultural Areas

§ 9.66 Russian River Valley.

* * * * *

(c) Boundaries. * * *

(10) Proceed north on Wright Avenue, which becomes Fulton Road, for approximately 3.8 miles to an unnamed unimproved road running to the east in Section 5 of T7W, R8W, which becomes a light duty road locally known as Francisco Avenue, and continue east on Francisco Avenue for about 0.6 mile to its intersection with the eastern boundary line of Section 5 in T7W, R8W, at a point where Francisco Avenue makes a 90° turn to the south.

(11) Proceed north along that section line for about 500 feet to a point due west of the intersection of Barnes Road and an unnamed light duty road locally known as Dennis Lane.

(12) From that point, proceed east in a straight line to Dennis Lane, continue east on Dennis Lane to its end, and continue due east in a straight line to U.S. Highway 101, passing onto the Santa Rosa map in the process.

(13) Proceed northwest along U.S. Highway 101, passing onto the Sebastopol map, to its intersection with an unnamed medium duty road locally known as River Road west of U.S. Highway 101 and as Mark West Springs Road east of U.S. Highway 101.

* * * * *

Signed: December 20, 2002.
Bradley A. Buckles,
Director.

[FR Doc. 03-286 Filed 1-7-03; 8:45 am]

BILLING CODE 4810-31-P